DEPARTMENT OF COMMERCE

National Oceanic and Atmospheric Administration

50 CFR Part 660

[Docket No. 240514-0137; RTID 0648-XE743]

Fisheries Off West Coast States; Modification of the West Coast Salmon Fisheries; Inseason Actions #17 Through #18

AGENCY: National Marine Fisheries Service (NMFS), National Oceanic and Atmospheric Administration (NOAA), Commerce.

ACTION: Inseason modification of 2024-2025 management measures.

SUMMARY: NMFS announces two inseason actions for the 2024 portion of the 2024-2025 ocean salmon fisheries. These inseason actions modify the recreational and commercial salmon fisheries in the area from Cape Falcon, OR, to the United States/Mexico border.

DATES: The effective dates for these inseason actions are set out in this document under the heading “Inseason Actions” and the actions remain in effect until superseded or modified.

FOR FURTHER INFORMATION CONTACT: Anna Heeter, (971) 361-8895, Anna.Heeter@noaa.gov.

SUPPLEMENTARY INFORMATION:

Background

The annual management measures for the 2024-2025 ocean salmon fisheries (89 FR 44553, May 21, 2024; 89 FR 53529, June 27, 2024) govern the commercial and recreational fisheries in the area from the United States/Canada border to the United States/Mexico border, effective from 0001 hours Pacific Daylight Time (PDT), May 16, 2024, until the effective date of the 2024-2025 management measures, as published in the Federal Register. These measures include early season fisheries in March through mid-May of 2025 that may be adjusted through inseason action when abundance forecasts for 2025 salmon returns become available. NMFS is authorized to implement inseason management actions to modify fishing seasons, catch limits, and quotas as necessary to provide fishing opportunities while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (United States/Canada border to Cape Falcon, OR) and south of Cape Falcon (SOF) (Cape Falcon, OR, to the United States/Mexico border). The actions described in this document affect the SOF commercial and recreational fisheries, as set out under the heading Inseason Actions below.

Consultation with the Council Chairman and representatives for the appropriate State Directors on these inseason actions occurred on March 10, 2025. These consultations included representatives from NMFS, Oregon Department of Fish and Wildlife, and California Department of Fish and Wildlife. Representatives from the Salmon Advisory Subpanel and the Salmon Technical Team (STT) were also present.

These inseason actions were announced on NMFS' telephone hotline and U.S. Coast Guard radio broadcast on the date of the consultations (50 CFR 660.411(a)(2)).

Inseason Actions

Reason and Authorization for Inseason Action #17-18

At its March 4-11, 2025 meeting, the STT presented stock abundance forecasts for 2025 for salmon stocks managed under the Pacific Coast Salmon Fishery Management Plan (FMP). Based on the STT's report, SOF ocean salmon fisheries will be constrained in 2025 by the very low abundance forecasts for Klamath River fall-run Chinook (KRFC) salmon and Sacramento River fall-run Chinook (SRFC) salmon. KRFC salmon were determined by NMFS to be overfished under the Magnuson-Stevens Fishery Conservation and Management Act (MSA) in 2018 and continue to meet the criteria for overfished status. In 2021, NMFS determined that SRFC, which were previously determined to be overfished, had achieved rebuilt status (87 FR 25429) due to several years of higher escapements. However, the Sacramento River has been experiencing low flows and high temperatures in recent years associated with decades of frequent droughts; these conditions have adversely affected the stock. The preliminary 2025 Sacramento Index (SI) forecast is 165,655. Application of this forecast to the SRFC harvest control rule results in a maximum allowable exploitation rate of 26.4 percent (just above the de minimus level of 25 percent) and a minimum hatchery and natural area escapement of 122,000 adults. This fishery would need to be severely constrained in order to meet this lower escapement goal of 122,000 adults. Due to these circumstances and the SI forecast being one of the lowest since the 1970s, caution is warranted to reduce the chances that the stock becomes overfished again. KRFC Chinook salmon expected abundance is low enough that the stock will be managed under the de minimus provisions of the harvest control rule in the FMP. In addition, the abundance of these stocks has been substantially over-forecast in recent years, and escapement has been much lower than anticipated preseason. To reduce the impacts on KRFC salmon and SRFC salmon, given the low forecasts, NMFS took inseason action on March 10, 2025, concurrent with the March Council meeting to restrict some fisheries that were previously scheduled to open prior to May 16, 2024.

The NMFS West Coast Regional Administrator (RA) considered the abundance forecasts for Chinook salmon stocks and the projected impacts in the ocean salmon fisheries, as modeled by the STT, and determined that the inseason actions described below are necessary to meet management and conservation goals set preseason. These inseason actions modify landing and possession limits, quotas and/or fishing seasons under 50 CFR 660.409(b)(1)(i).

Inseason Action #17

Description of the action: Inseason action #17 modifies the ocean salmon recreational fishery and the ocean salmon troll commercial fishery from the Oregon/California border to the U.S./Mexico border. These fisheries are closed through May 15, 2025, or until superseded.

Effective dates: Inseason action #17 takes effect for the following areas and dates, and remains in effect until superseded.

• Effective May 1, 2025, at 12:01 a.m., for the ocean salmon troll commercial fishery from the Oregon/California border to Humboldt South Jetty (California Klamath Management Zone).

• Effective April 16, 2025, at 12:01 a.m., for the ocean salmon troll commercial fishery from lat. 40°10′ N to Point Arena, CA (Fort Bragg management area).

• Effective May 1, 2025, at 12:01 a.m., for the ocean salmon troll commercial fishery from Point Arena, CA, to Pigeon Point, CA (San Francisco management area).

• Effective May 1, 2025, at 12:01 a.m., for the ocean salmon troll commercial fishery from Pigeon Point, CA, to the U.S./Mexico border (Monterey management area).

• Effective April 5, 2025, at 12:01 a.m., for the ocean salmon recreational fishery from the Oregon/California border to latitude 40°10′ N (California Klamath Management Zone).

• Effective April 5, 2025, at 12:01 a.m., for the ocean salmon recreational fishery from latitude 40°10′ N and Point Arena, CA (Fort Bragg management area).

• Effective April 5, 2025, at 12:01 a.m., for the ocean salmon recreational fishery from Point Arena, CA, to Pigeon Point, CA (San Francisco Management Area).

• Effective April 5, 2025, at 12:01 a.m., for the ocean salmon recreation fishery from Pigeon Point, CA, to the U.S./Mexico border (Monterey Management Area).

Inseason Action #18

Description of the action: Inseason action #18 modifies the SOF commercial salmon troll fishery. In the area between Cape Falcon, OR, and the Oregon/California border. These fisheries are closed for some of the dates they were originally scheduled to be open, as described below.

Effective dates: Inseason action #18 takes effect for the following areas and dates, and remains in effect until superseded.

• Effective March 15, 2025, at 12:01 a.m., for the commercial salmon troll fishery in the area between Cape Falcon, OR, and Humbug Mountain, OR, through April 9, 2025, at 11:59 p.m.

• Effective March 15, 2025, at 12:01 a.m., for the commercial salmon troll fishery in the area between Humbug Mountain and the Oregon/California border through April 14, 2025, at 11:59 p.m.

All other restrictions and regulations remain in effect as announced for the 2024-2025 ocean salmon fisheries (89 FR 44553, May 21, 2024; 89 FR 53529, June 27, 2024; 89 FR 61355, July 31, 2024; 89 FR 104895, December 26, 2024) except as previously modified by inseason actions.

The states and Tribes manage the fisheries in state waters adjacent to the areas of the U.S. exclusive economic zone (3-200 nautical miles; 5.6-370.4 kilometers) off the coasts of the States of Washington, Oregon, and California consistent with these Federal actions. As provided by the inseason notice procedures at 50 CFR 660.411, actual notice of the described regulatory actions was given, prior to the time the actions became effective, by telephone hotline numbers 206-526-6667 and 800-662-9825, and by U.S. Coast Guard Notice to Mariners broadcasts on Channel 16 VHF-FM and 2182 kHz.

Classification

NMFS issues these actions pursuant to section 305(d) of the MSA. These actions are authorized by 50 CFR 660.409, which was issued pursuant to section 304(b) of the MSA, and are exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information were developed and fisheries impacts were calculated, and the time the fishery modifications had to be implemented in order to ensure that fisheries are managed based on the best scientific information available. As previously noted, actual notice of the regulatory action was provided to fishers through telephone hotlines and radio notifications. These actions comply with the requirements of the annual management measures for ocean salmon fisheries (89 FR 44553, May 21, 2024; 89 FR 53529, June 27, 2024), the FMP, and regulations implementing the FMP under 50 CFR 660.409 and 660.411.

There is good cause under 5 U.S.C. 553(d)(3) to waive the 30-day delay in effective date, as a delay in effectiveness of this action would allow fishing at levels inconsistent with the goals of the FMP and the current management measures.

Authority: 16 U.S.C. 1801 et seq.

Dated: March 24, 2025.
Karen H. Abrams,
Acting Director, Office of Sustainable Fisheries, National Marine Fisheries Service.

[FR Doc. 2025-05259 Filed 3-26-25; 8:45 am]

BILLING CODE 3510-22-P